DEPARTMENT OF COMMERCE

International Trade Administration

[A-552-801]

Certain Frozen Fish Fillets From the Socialist Republic of Vietnam: Amended Final Results of Antidumping Duty New Shipper Review; 2011-2012

AGENCY: Import Administration, International Trade Administration, Department of Commerce.

SUMMARY: The Department of Commerce (“the Department”) is amending the final results of a new shipper review of the antidumping duty order on certain frozen fish fillets (“fish fillets”) from the Socialist Republic of Vietnam (“Vietnam”) to correct a ministerial error.¹ The period of review (“POR”) is August 1, 2011, through January 31, 2012.

¹ See Certain Frozen Fish Fillets from the Socialist Republic of Vietnam: Final Results of Antidumping Duty New Shipper Reviews; 2011-2012, 78 FR 39708 (July 2, 2013) (“Final Results”), and accompanying Issues and Decisions Memorandum (“I&D Memo”).

DATES: Effective Date: August 8, 2013.

FOR FURTHER INFORMATION CONTACT: Jerry Huang, Seth Isenberg, or Toni Dach, AD/CVD Operations, Office 9, Import Administration, International Trade Administration, Department of Commerce, 14th Street and Constitution Avenue NW., Washington, DC 20230; telephone: (202) 482-4047, (202) 482-0588, and (202) 482-1655, respectively.

SUPPLEMENTARY INFORMATION:

Background

On June 25, 2013, the Department disclosed to interested parties its calculations for the Final Results.² On July 1, 2013, we received ministerial error comments from Petitioners. No other interested party submitted comments.

² The interested parties include: The Catfish Farmers of America, and individual U.S. catfish processors (collectively “Petitioners”), Quang Minh Seafood Co., Ltd. (“Quang Minh”), Dai Thanh Seafoods Company Limited (“Dathaco”), Fatifish Company Limited (“Fatifish”), and Hoang Long Seafood Processing Co., Ltd. (“Hoang Long”).

Scope of the Order

For a full description of the products covered by the antidumping duty order, see I&D Memo.

Ministerial Errors

Section 751(h) of the Tariff Act of 1930, as amended (“the Act”), and 19 CFR 351.224(f) define a “ministerial error” as an error “in addition, subtraction, or other arithmetic function, clerical error resulting from inaccurate copying, duplication, or the like, and any similar type of unintentional error which the Secretary considers ministerial.” After analyzing Petitioners' ministerial error comments, we have determined, in accordance with section 751(h) of the Act and 19 CFR 351.224(e), that we made a ministerial error in our calculation for the Final Results. For a detailed discussion of all alleged ministerial errors, as well as the Department's analysis, see Memorandum to Paul Piquado, Assistant Secretary for Import Administration, through Gary Taverman, Senior Advisor for Antidumping and Countervailing Duty Operations, from James C. Doyle, Director, Office 9, “Antidumping Duty New Shipper Reviews, 2011-2012, of Certain Frozen Fish Fillets from the Socialist Republic of Vietnam: Ministerial Error Allegation Memorandum,” dated concurrently with this notice.

In accordance with section 751(h) of the Act and 19 CFR 351.224(e), we are amending the Final Results of the new shipper review of fish fillets from Vietnam for Hoang Long. The revised weighted-average dumping margin for Hoang Long is detailed below. We have not revised the weighted-average dumping margins and cash deposit requirements for the other companies subject to the Final Results because the ministerial error referenced above does not affect the calculation of their margins.

Amended Final Results of the New Shipper Review

The amended weighted-average dumping margin calculated for Hoang Long in the new shipper review is as follows:

Exporter | Producer | Weighted-average margin (dollars per kilogram)
Hoang Long Seafood Processing Co., Ltd | Hoang Long Seafood Processing Co., Ltd | 0.83

Disclosure

We will disclose the calculations performed for these amended final results to interested parties within five days of the date of publication of this notice in accordance with 19 CFR 351.224(b).

Assessment Rates

Pursuant to section 751(a)(2)(A) of the Act and 19 CFR 351.212(b), the Department will determine, and U.S. Customs and Border Protection (“CBP”) shall assess, antidumping duties on all appropriate entries of subject merchandise in accordance with the amended final results of this review. The Department intends to issue appropriate assessment instructions directly to CBP 15 days after publication of the amended final results of this new shipper review.

For assessment purposes, we calculated importer (or customer)-specific assessment rates for merchandise subject to this review. We will continue to direct CBP to assess importer-specific assessment rates based on the resulting per-unit (i.e., per-kilogram) rates by the weight in kilograms of each entry of the subject merchandise during the POR. Specifically, we calculated importer-specific duty assessment rates on a per-unit rate basis by dividing the total dumping margins (calculated as the difference between normal value and export price or constructed export price) for each importer by the total sales quantity of subject merchandise sold to that importer during the POR. We will instruct CBP to assess antidumping duties on all appropriate entries covered by this review if any importer-specific assessment rate calculated in the final results of this review is above de minimis (i.e., 0.50 percent or more). Where either the respondent's weighted-average dumping margin is zero or de minimis, or an importer-specific assessment rate is zero or de minimis, we will instruct CBP to liquidate the appropriate entries without regard to antidumping duties, in accordance with 19 CFR 351.106(c)(2).

Cash Deposit Requirements

The following cash deposit requirements will be effective retroactively on any entries made after July 2, 2013, the date of publication of the Final Results, for all shipments of the subject merchandise entered, or withdrawn from warehouse, for consumption on or after the publication date of the amended final results of these new shipper reviews, as provided for by section 751(a)(2)(C) of the Act: (1) For subject merchandise produced and exported by Hoang Long, the cash deposit rate will be the rate established in the amended final results of this new shipper review; (2) for subject merchandise exported by Hoang Long, but not manufactured by Hoang Long, the cash deposit rate will continue to be the Vietnam-wide rate (i.e., $2.11/kilogram); ³ and (3) for subject merchandise manufactured by Hoang Long, but exported by any other party, the cash deposit rate will be the rate applicable to the exporter. The cash deposit requirement, when imposed, shall remain in effect until further notice.

³ See Certain Frozen Fish Fillets from the Socialist Republic of Vietnam: Final Results of Antidumping Duty Administrative Review and New Shipper Reviews; 2010-2011, 78 FR 17350, 17353 (March 21, 2013).

Reimbursement of Duties

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

These amended final results are published in accordance with sections 751(h) and 777(i)(1) of the Act.

Dated: July 29, 2013.
Paul Piquado,
Assistant Secretary for Import Administration.

[FR Doc. 2013-19240 Filed 8-7-13; 8:45 am]

BILLING CODE 3510-DS-P